DEPARTMENT OF COMMERCE

International Trade Administration

[A-602-809, A-351-845, A-588-874, A-580-883, A-421-813, A-489-826, A-412-825]

Certain Hot-Rolled Steel Flat Products From Australia, Brazil, Japan, the Republic of Korea, the Netherlands, the Republic of Turkey, and the United Kingdom: Postponement of Preliminary Determinations of Antidumping Duty Investigations

AGENCY: Enforcement and Compliance, International Trade Administration, Department of Commerce.

DATES: Effective date: November 25, 2015.

FOR FURTHER INFORMATION CONTACT: Frances Veith at (202) 482-4295 (Australia); Yang Jin Chun at (202) 482-5760 (Brazil); Jack Zhao at (202) 482-1396 (Japan); Matthew Renkey at (202) 482-2312 (the Republic of Korea (“Korea”)); Dmitry Vladimirov at (202) 482-0665, (the Netherlands); Jack Zhao at (202) 482-1396 (the Republic of Turkey (“Turkey”)); and Catherine Cartsos at (202) 482-1757 (the United Kingdom), AD/CVD Operations, Enforcement and Compliance, U.S. Department of Commerce, 14th Street and Constitution Avenue NW., Washington, DC 20230.

SUPPLEMENTARY INFORMATION:

Background

On August 31, 2015, the Department of Commerce (the “Department”) initiated antidumping duty (“AD”) investigations of imports of certain hot-rolled steel flat products (“hot-rolled steel”) from Australia, Brazil, Japan, Korea, the Netherlands, Turkey, and the United Kingdom.¹ The notice of initiation stated that, in accordance with section 733(b)(l)(A) of the Tariff Act of 1930, as amended (the “Act”), and 19 CFR 351.205(b)(1), we would issue our preliminary determinations no later than 140 days after the date of initiation, unless postponed. Currently, the preliminary determinations in these investigations are due no later than January 19, 2016.²

¹ See Certain Hot-Rolled Steel Flat Products from Australia, Brazil, Japan, the Republic of Korea, the Netherlands, the Republic of Turkey, and the United Kingdom: Initiation of Less-Than-Fair Value Investigations, 80 FR 54261(September 9, 2015).

² The deadline for the preliminary determinations is normally 140 days after we initiated these investigations, or January 18, 2016, which is a Federal holiday. Department practice dictates that where a deadline falls on a weekend or Federal holiday, the appropriate deadline is the next business day (in this instance, January 19, 2016). See Notice of Clarification: Application of “Next Business Day” Rule for Administrative Determination Deadlines Pursuant to the Tariff Act of 1930, As Amended, 70 FR 24533 (May 10, 2005).

Postponement of Preliminary Determinations

Sections 733(c)(1)(B)(i) and (ii) of the Act permit the Department to postpone the time limit for the preliminary determination if it concludes that the parties concerned are cooperating and determines that the case is extraordinarily complicated by reason of the number and complexity of the transactions to be investigated or adjustments to be considered, the novelty of the issues presented, or the number of firms whose activities must be investigated, and additional time is necessary to make the preliminary determination. Under this section of the Act, the Department may postpone the preliminary determination until no later than 190 days after the date on which the Department initiated the investigation.

The Department determines that the parties involved in these hot-rolled steel AD investigations are cooperating, and that the investigations are extraordinarily complicated. Additional time is required to analyze the questionnaire responses and issue appropriate requests for clarification and additional information.

Therefore, in accordance with section 733(c)(1)(B) of the Act and 19 CFR 351.205(f)(1), the Department is postponing the time period for the preliminary determinations of these investigations by 50 days, to March 8, 2016. Pursuant to section 735(a)(l) of the Act and 19 CFR 351.210(b)(1), the deadline for the final determinations will continue to be 75 days after the date of the preliminary determinations, unless postponed at a later date.

This notice is issued and published pursuant to section 733(c)(2) of the Act and 19 CFR 351.205(f)(1).

Dated: November 17, 2015.
Paul Piquado,
Assistant Secretary for Enforcement and Compliance.

[FR Doc. 2015-29936 Filed 11-24-15; 8:45 am]

BILLING CODE 3510-DS-P